DEPARTMENT OF TRANSPORTATION

Federal Aviation Administration

Notice of Intent of Waiver With Respect to Land; Akron Fulton Airport, Akron, Ohio

AGENCY: Federal Aviation Administration (FAA), DOT.

ACTION: Notice.

SUMMARY: The FAA is considering a proposal to change 9.41 acres of airport land from aeronautical use to non-aeronautical use and to authorize the lease of airport property located at Akron Fulton Airport, Akron, Ohio. The aforementioned land is not needed for aeronautical use.

The property is located southeast of the airfield west of Derby Downs Drive. The property is designated as aeronautical use however there is no aeronautical use. During special events the property is used for parking. The proposed non-aeronautical use of the property is for the development of a Commercial Driver's License training facility to be operated by Stark State College. The City of Akron will lease the property to Stark State College.

DATES: Comments must be received on or before May 17, 2019.

ADDRESSES: Documents are available for review by appointment at the FAA Detroit Airports District Office, Evonne M. McBurrows, Program Manager, 11677 South Wayne Road, Romulus, Michigan, 48174 Telephone: (734)229-2945/Fax: (734)229-2950 and City of Akron, Department of Public Service, Akron Engineering Bureau, 166 South High Street, Room 701, Akron, Ohio, 44308, and (330)375-2355. Written comments on the Sponsor's request must be delivered or mailed to: Evonne M. McBurrows, Program Manager, Federal Aviation Administration, Detroit Airports District Office, 11677 South Wayne Road, Suite 107, Romulus, Michigan 48174, Telephone Number: (734)229-2945/FAX Number: (734)229-2950.

FOR FURTHER INFORMATION CONTACT: Evonne M. McBurrows, Program Manager, Federal Aviation Administration, Detroit Airports District Office, 11677 South Wayne Road, Suite 107, Romulus, Michigan 48174. Telephone Number: (734)229-2945/FAX Number: (734)229-2950.

SUPPLEMENTARY INFORMATION: In accordance with section 47107(h) of Title 49, United States Code, this notice is required to be published in the Federal Register 30 days before modifying the land-use assurance that requires the property to be used for an aeronautical purpose.

The property is designated as aeronautical use however the land is not needed for aeronautical purposes. The City Akron is proposing to lease the property at a fair market value to Stark State College for the development of a Commercial Drivers Licensing Facility.

The disposition of proceeds from the lease of the airport property will be in accordance with FAA's Policy and Procedures Concerning the Use of Airport Revenue, published in the Federal Register on February 16, 1999 (64 FR 7696).

This notice announces that the FAA is considering the release of the subject airport property at the Akron Fulton Airport, Akron, Ohio from its obligations to be maintained for aeronautical purposes. Approval does not constitute a commitment by the FAA to financially assist in the change in use of the subject airport property nor a determination of eligibility for grant-in-aid funding from the FAA.

Legal Description

Situated in the City of Akron, County of Summit, State of Ohio, known as being part of Lot 4 and Lot 5, Tract 4, formerly Springfield Township, also known as being part of a record 89.62 acre parcel conveyed to the City of Akron, in O.R. 1814, Pg. 393 of the Summit County Recorder's records, also being part of a record 8.60 acre parcel conveyed to the City of Akron, in O.R. 1347, Pg. 453 of the Summit County Recorder's records, and also known as being part of a record 60.09 acre parcel conveyed to the City of Akron, in O.R. 1455, Pg. 471 of the Summit County Recorder's records, and is further bounded and described as follows:

Commencing at the centerline intersection of Triplett Boulevard (Width Varies) and George Washington Boulevard (Width Varies) as shown in Plat Cabinet M, Pg. 136-139 of the Summit County Recorders Records;

thence, South 00°20′48″ West, along the centerline of said George Washington Boulevard, a distance of 201.69 feet to a point of curvature;

thence, continuing along the centerline of said George Washington Boulevard, along a curve to the right, with a radius of 1000.00 feet, and arc length of 196.00 feet, a chord bearing of South 05°57′42″ West, and chord distance of 195.68 feet to a point of tangency;

thence, South 11°34′35″ West, continuing along the centerline of said George Washington Boulevard, a distance of 1201.59 feet to a ⅝″ iron pin found (capped “City of Akron Engineer”) in a monument box at a point of curvature;

thence, continuing along the centerline of said George Washington Boulevard, along a curve to the right, with a radius of 1199.76 feet, and arc length of 386.72 feet, a chord bearing of South 20°48′38″ West, and chord distance of 385.05 feet to a point;

thence, South 59°57′20″ East, a distance of 50.00 feet to a ⅝″ iron pin found (capped “City of Akron Engineer”), said point being the southeast comer of a record 6.8736 acre parcel conveyed to the City of Akron, in Reception No. 56383269 of the Summit County Recorder's records and the northeast comer of a parcel conveyed to The University of Akron in O.R. 196, Pg. 279 of the Summit County Recorder's records, on the westerly right-of-way of said George Washington Boulevard;

thence, North 56°40′01″ West, along the southerly line of said 6.8736 acre City of Akron parcel, and along the northerly line of said parcel conveyed to The University of Akron, a distance of 263.45 feet to a point;

northerly line of said University of Akron parcel, a distance of 97.21 feet to a point;

thence, North 06°31′41″ East, along the southerly line of said 6.8736 acre City of Akron parcel, and the northerly line of said University of Akron parcel, a distance of 42.17 feet to a point;

thence, North 41°20′54″ West, along the southerly line of said 6.8736 acre City of Akron parcel, and the northerly line of said University of Akron parcel, a distance of 47.61 feet to a point;

thence, North 35°26′18″ West, along the southerly line of said 6.8736 acre City of Akron parcel, and the northerly line of said University of Akron parcel, a distance of 51.02 feet to a point;

thence, North 30°00′22″ West, along said 6.8736 acre City of Akron parcel, a distance of 143.64 feet to a point;

thence, North 15°29′16″ East, along said 6.8736 acre City of Akron parcel, a distance of 129.84 feet to a point, witness a ¾″ iron pin found North 41 °42′04″ West, 0.34 feet;

thence, North 54°31′46″ West, a distance of 170.35 feet to a point on the centerline of Derby Downs Drive (No Defined Width) as recorded in the “Land Transfer & Parking Lease Plat Rubber Bowl Property” Drawing No. A-8880 of the City of Akron Engineers Records;

thence along the centerline of said Derby Downs Drive the following courses:

Thence, South 21 °26′08″ West, a distance of 50.59 feet to a point;

thence, South 23°43′28″ West, a distance of 51.03 feet to a point;

thence, South 26°13′16″ West, a distance of 50.63 feet to a point;

thence, South 29°02′00″ West, a distance of 50.30 feet to a point;

thence, South 30°54′24″ West, a distance of 50.14 feet to a point;

thence, South 33°59'3711 West, continuing along the centerline of said Derby Downs Drive, a distance of 37.83 feet to a Railroad Spike Set, which is the TRUE PLACE OF BEGINNING for the following described parcel;

thence along the centerline of said Derby Downs Drive the following courses:

thence, South 33°59′3711 West, a distance of 12.18 feet to a point;

thence, South 35°01′34″ West, a distance of 50.00 feet to a point;

thence, South 35°27′16″ West, a distance of 100.00 feet to a point;

thence, South 35°18′41″ West, a distance of 200.00 feet to a point;

thence, South 34°58′04″ West, a distance of 100.00 feet to a point;

thence, South 34°15′06″ West, a distance of 100.01 feet to a point;

thence, South 33°57′52″ West, a distance of 100.03 feet to a point;

thence, South 33°27100″ West, a distance of 100.05 feet to a point;

thence, South 32°45149″ West, a distance of 100.09 feet to a point;

thence, South 32°37′14″ West, a distance of 100.11 feet to a point;

thence, South 31°47132″ West, a distance of 100.18 feet to a point;

thence, South 30°56110″ West, a distance of 15.54 feet to a Railroad Spike Set;

thence, North 28°43143″ West, a distance of 689.44 feet to a ⅝″ iron pin set (capped “Lewis Land Professionals”);

thence, North 61°10131″ West, along the Akron-Fulton Municipal Airport security fence, a distance of 879.05 feet to a ⅝″ iron pin set (capped “Lewis Land Professionals”);

thence, South 50°35132″ East, a distance of 212.13 feet to the Place of Beginning, containing 9.4099 acres of land, more or less, as surveyed by Joseph A. Burgoon, Registered Surveyor No. 8325 in October 2018, for and on behalf of Lewis Land Professionals, Inc.

The Basis of Bearing for this description is Grid North of the Ohio State Plane Coordinate System, NAD83 (2011), North Zone as established by GPS observations.

Issued in Romulus, Michigan, on April 5, 2019.
John L. Mayfield, Jr.,
Manager, Detroit Airports District Office, FAA, Great Lakes Region.

[FR Doc. 2019-07686 Filed 4-16-19; 8:45 am]

BILLING CODE 4910-13-P